DEPARTMENT OF AGRICULTURE

Food and Nutrition Service

2020 Dietary Guidelines Advisory Committee

AGENCY: U.S. Department of Agriculture, Food, Nutrition, and Consumer Services; Department of Health and Human Services.

ACTION: Notice; announcement of meeting on Draft Report and public comment.

SUMMARY: The Departments of Agriculture (USDA) and Health and Human Services (HHS) announce a meeting of the 2020 Dietary Guidelines Advisory Committee (the Committee) on its Draft Report. The period for written public comments to the Committee will remain open through Wednesday, June 10, 2020. After the Committee submits its Final Advisory Report to USDA and HHS, the public is invited to provide written and oral comments to USDA and HHS on the Scientific Report of the 2020 Dietary Guidelines Advisory Committee (the Advisory Report).

DATES: This notice is being provided to the public on June 1, 2020. The meetings and comment collection dates are scheduled as follows:

• A webcast meeting during which the Committee will discuss its Draft Advisory Report will be on Wednesday, June 17, 2020, 11 a.m. to 7 p.m. ET.

• The period for written public comments to the Committee will remain open until 11:59 p.m. ET on Wednesday, June 10, 2020.

• The Final Advisory Report is expected to be available for review online on or around Wednesday, July 15, 2020. Once the Final Advisory Report is online, the 30-day period begins for written comments to USDA and HHS on the Final Report; it closes on the 30th day at 11:59 p.m. ET. Specific dates will be announced at www.DietaryGuidelines.gov.

• The public is invited to present oral comments to USDA and HHS on Tuesday, August 11, 2020, 8:30 a.m. to 1 p.m. ET. Registration for the opportunity to present oral comments will be announced and available at www.DietaryGuidelines.gov before Monday, July 27, 2020.

ADDRESSES: (a) The meeting to discuss the Draft Advisory Report will be via webcast; attendees are asked to register prior to the meeting. Registrants will receive the webcast information prior to the meeting.

(b) The Final Advisory Report will be available at www.DietaryGuidelines.gov.

(c) The meeting to provide oral comments to USDA and HHS will be either in person or via webcast. Notice will be given in advance of the meeting at www.DietaryGuidelines.gov. If the meeting is in person, those providing oral comments are required to attend the public meeting at the U.S. Department of Agriculture, South Building, Jefferson Auditorium, 1400 Independence Ave. SW, Washington, DC 20250. Others wanting to participate by listening to the oral comments can do so in person or via webcast. Regardless as to if the meeting is in person or via webcast, registrants will receive the webcast information prior to the meeting.

(d) The public may continue to send written comments to the Committee, identified by Docket FNS-2019-0001, until June 10, 2020, 11:59 p.m. Once the Committee's Final Advisory Report is posted for the public, written comments to USDA and HHS on this report are to be identified by Docket FNS-2020-0015. Use either of the following methods:

• Federal eRulemaking Portal: http://www.Regulations.gov. Follow the instructions for sending comments. Preferred method.

• Mail: Kristin Koegel, USDA Food and Nutrition Service, Center for Nutrition Policy and Promotion; 1320 Braddock Place, Room 4094; Alexandria, VA 22314.

Instructions: All submissions received must include the agency name and Docket FNS-2019-0001 if comments are for the Committee, or Docket FNS-2020-0015 if comments are for USDA and HHS. For detailed instructions on sending written comments, see the SUPPLEMENTARY INFORMATION section of this document.

Docket: For access to Dockets FNS-2019-0001 and FNS-2020-0015 and to read background documents or comments received, go to www.Regulations.gov.

FOR FURTHER INFORMATION CONTACT: Designated Federal Officer (DFO), 2020 Dietary Guidelines Advisory Committee, Eve Stoody, Ph.D.; USDA Food and Nutrition Service, Center for Nutrition Policy and Promotion; 1320 Braddock Place, Room 4032; Alexandria, VA 22314; Telephone (703) 305-7600. Additional information is available at www.DietaryGuidelines.gov.

SUPPLEMENTARY INFORMATION: Authority and Purpose: The 2020 Dietary Guidelines Advisory Committee is governed under the provisions of the Federal Advisory Committee Act (FACA), Public Law 92-463, as amended (5 U.S.C., App). Under Section 301 of Public Law 101-445 (7 U.S.C. 5341, the National Nutrition Monitoring and Related Research Act of 1990, Title III), the Secretaries of USDA and HHS are directed to jointly publish the Dietary Guidelines for Americans at least every five years. See 84 FR 8840, March 12, 2019, for notice of the first meeting of the 2020 Dietary Guidelines Advisory Committee, the complete Authority and Purpose, and the Committee's Task.

Purpose of the Meetings: The Committee will review, discuss, and approve its Draft Advisory Report at the June 17 meeting. At the public meeting on August 11, the public will offer oral comments to USDA and HHS on the Final Advisory Report.

Meeting Agendas: Specific agendas will be announced in advance of each public meeting at www.DietaryGuidelines.gov.

Meeting Registration for June 17: The meeting for the Committee to discuss its Draft Advisory Report on June 17 will be open to the public and will only be accessible by webcast. Attendees are asked to register prior to this meeting. Registration will open at least two weeks in advance of the meeting and will remain open throughout the meeting. Registration will be available at www.DietaryGuidelines.gov on the “Work Under Way” page and by clicking, “Attend a Meeting.”

Meeting Registration for August 11: This meeting will be either in person or via webcast. Notice of the meeting venue will be provided on www.DietaryGuidelines.gov closer to the meeting date. Attendees are asked to register prior to this meeting, though registration to attend (either in person or via webcast) will remain open throughout the meeting. Registration will open at least two weeks in advance of this meeting. If providing oral comments, registration to provide oral comments will close once capacity is reached or at 5 p.m. ET on July 27, whichever comes first. Registration will be available at www.DietaryGuidelines.gov on the “Work Under Way” page and by clicking, “Attend a Meeting.” To present up to three minutes of oral comments at the August 11 meeting, register online following the instructions on the meeting registration page. Additional information on providing oral comments is provided below. Those requesting to present oral comments will be asked to provide certain information, including their name, affiliation, email address, and a written outline of the intended remarks, in their request submitted online.

Registration by phone for June 17 and August 11 meetings: To register by phone or to request a sign language interpreter or other special accommodations, please call for registration and logistics assistance through USDA's Center for Nutrition Policy and Promotion, Susan Cole at (703) 305-7600.

Webcast Public Participation: After registration, individuals participating by webcast will receive webcast access information by email.

In-Person Public Participation and Building Access: If the August 11 meeting is held in person, it will be held in Washington, DC. Details regarding directions will be provided by email and posted on www.DietaryGuidelines.gov. For in-person (registered) participants, after going through USDA security at the building entrance, check-in at the on-site registration desk is required and will begin at 7:30 a.m. ET.

Oral Comments: The public may present up to three minutes of oral comments on August 11; pre-registration for presenting is required by 5 p.m. ET on July 27 or before capacity for the meeting has been reached, whichever comes first, and will be confirmed on a first-come, first-served basis. The number of presenters will be limited based on the time allotted. Oral comments are limited to one representative per organization. Requests to present oral comments can be made by visiting the “Work Under Way” page at www.DietaryGuidelines.gov and by clicking, “Attend a Meeting.” Individuals registering to provide oral comments must provide a written outline of the intended remarks, not exceeding one page in length. As space permits, confirmation to provide oral comments will be sent by email and will include further instructions for participation.

Written Comments and Meeting Documents: The period for written public comments to the Committee, which opened on March 12, 2019, will remain open until 11:59 p.m. ET on June 10, 2020. The 30-day comment period for written public comments to USDA and HHS on the Final Advisory Report will open on or around July 15, 2020, depending on the specific date the Final Advisory Report is made available, and will close on or around August 13, 2020. Specific dates will be posted to www.DietaryGuidelines.gov.

• Electronic submissions: Preferred method. Follow the instructions for submitting comments at www.Regulations.gov. Comments electronically submitted to the Committee, including attachments, will be posted to Docket FNS-2019-0001. If comments are for USDA and HHS on the Final Advisory Report, they will be posted to Docket FNS-2020-0015.

• Written/paper submissions: Mail/courier to Kristin Koegel, USDA Food and Nutrition Service, Center for Nutrition Policy and Promotion (CNPP); 1320 Braddock Place, Room 4094; Alexandria, VA 22314. For written/paper submissions, CNPP will post the comment, as well as any attachments, to www.Regulations.gov.

Meeting materials will be available for public viewing at www.DietaryGuidelines.gov approximately one month following each meeting (June 17 and August 11) and at the USDA Food and Nutrition Service, Center for Nutrition Policy and Promotion; 1320 Braddock Place, Room 4094; Alexandria, VA 22314. Materials may be requested by: Telephone (703) 305-7600 and email DietaryGuidelines@usda.gov.

Pamilyn Miller,
Administrator, Food and Nutrition Service, U.S. Department of Agriculture.

[FR Doc. 2020-11627 Filed 5-29-20; 8:45 am]

BILLING CODE 3410-30-P